DEPARTMENT OF AGRICULTURE

National Institute of Food and Agriculture

7 CFR Part 3430

RIN 0524-AA60

Competitive and Noncompetitive Non-Formula Federal Assistance Programs—Specific Administrative Provisions for the New Era Rural Technology Competitive Grants Program

AGENCY: National Institute of Food and Agriculture, USDA.

ACTION: Final rule.

SUMMARY: The National Institute of Food and Agriculture (NIFA) is publishing a set of specific administrative requirements for the New Era Rural Technology Competitive Grants Program (RTP) to supplement the Competitive and Noncompetitive Non-formula Federal Assistance Programs—General Award Administrative Provisions for this program.

DATES: This rule is effective on September 27, 2010.

FOR FURTHER INFORMATION CONTACT: Greg Smith, National Program Leader, Higher Education Programs, Science and Education Resources Development; Voice: 202-720-2067; E-mail: gsmith@nifa.usda.gov.

SUPPLEMENTARY INFORMATION:

I. Background and Summary

On September 4, 2009, NIFA published an interim rule (74 FR 45972, September 4, 2009) to implement the Competitive and Noncompetitive Formula Federal Assistance Program—Specific Administrative Provisions for the New Era Rural Technology Competitive Grants Program. In the interim rule, NIFA invited comments which were due to the agency by January 4, 2010. We did not receive any comments. The only change to the rule is to clarify the definition on the type of organization that is eligible to apply under “Advanced Technological Center” (see Sec. 3430.902 Definitions). Most “Advanced Technological Centers” are postsecondary, degree-granting academic institutions. They are another name for community or junior colleges with a specific academic focus in paraprofessional or trade areas such as electronic, mechanical, civil, and engineering technology. Also, these Advanced Technological Centers confer an associate degree or certificate of completion following successful completion of an academic curriculum sanctioned by an independent accreditation governing body.

Some prospective applicants, who are not affiliated with a postsecondary, degree-granting academic institution, but are, instead, private businesses, do not offer an academic degree and are not sanctioned by an independent accreditation governing body. Accordingly, NIFA is not able to determine whether the commercial, for-profit interests of these private businesses are aligned with the following two New Era rural Technology program goals:

1. To increase the number of students encouraged to pursue and complete a two (2) year postsecondary degree, or a certificate of completion, within an occupational focus of this grant program; and

2. To assist rural communities by helping students achieve their career goals to develop a viable workforce for bioenergy, pulp and paper manufacturing, or agriculture-based renewable energy.

By including the terms postsecondary, degree-granting academic institution to the eligible applicant definition, applicants are more inclined to follow the original intent of Congress in providing academic coursework and training in technology development and applied research to help ensure workforce opportunities critical to rural communities.

Authority

Section 1405 of the National Agricultural Research, Extension, and Teaching Policy Act (NARETPA) of 1997, as amended (7 U.S.C. 3121) designates the U.S. Department of Agriculture (USDA) as the lead Federal agency for agriculture research, extension and teaching in the food and agricultural sciences. Section 1473E of NARETPA (7 U.S.C. 3319e), as amended, requires the establishment of a program to be known as the New Era Rural Technology Competitive Grants Program (RTP), which NIFA administers.

In carrying out the program, the Secretary is authorized to make competitive grants to support the fields of (i) bioenergy, (ii) pulp and paper manufacturing, and (iii) agriculture-based renewable energy resources, in order to help ensure workforce opportunities critical to rural communities. RTP will make grants available to community college(s) and/or advanced technology center(s), located in rural areas, for technology development, applied research, and/or training.

For fiscal year (FY) 2010, $850,000 has been made available for the RTP, including administrative costs.

Organization of 7 CFR Part 3430

A primary function of NIFA is the fair, effective, and efficient administration of Federal assistance programs implementing agricultural research, education, and extension programs. As noted above, NIFA has been delegated the authority to administer this program and will be issuing Federal assistance awards for funding made available for this program; and thus, awards made under this authority will be subject to the Agency's assistance regulations at 7 CFR part 3430, Competitive and Noncompetitive Non-formula Federal Assistance Programs—General Award Administrative Provisions. The Agency's development and publication of these regulations for its non-formula Federal assistance programs serve to enhance its accountability and to standardize procedures across the Federal assistance programs it administers while providing transparency to the public. NIFA published 7 CFR part 3430 with subparts A through F as an interim rule on August 1, 2008 [73 FR 44897-44909], and adopted as a final rule September 4, 2009 [74 FR 45736-45752]. These regulations apply to all Federal assistance programs administered by NIFA except for the formula grant programs identified in 7 CFR 3430.1(f), the Small Business Innovation Research programs with implementing regulations at 7 CFR part 3403, and the Veterinary Medicine Loan Repayment Program (VMLRP) authorized under section 1415A of the National Agricultural Research, Extension, and Teaching Policy Act of 1977 (NARETPA) with implementing regulations at 7 CFR 3431.

NIFA organized the regulation as follows: Subparts A through E provide administrative provisions for all competitive and noncompetitive non-formula Federal assistance awards. Subparts F and thereafter apply to specific NIFA programs.

NIFA is, to the extent practical, using the following subpart template for each program authority: (1) Applicability of regulations, (2) purpose, (3) definitions (those in addition to or different from Sec. 3430.2), (4) eligibility, (5) project types and priorities, (6) funding restrictions (including indirect costs), and (7) matching requirements. Subparts F and thereafter contain the above seven components in this order. Additional sections may be added for a specific program if there are additional requirements or a need for additional rules for the program (e.g., additional reporting requirements). Through this rulemaking, NIFA is adding subpart M for the administrative provisions that are specific to the RTP.

II. Administrative Requirements for the Proposed Rulemaking Executive Order 12866

This action has been determined to be not significant for purposes of Executive Order 12866, and therefore, has not been reviewed by the Office of Management and Budget (OMB). This final rule will not create a serious inconsistency or otherwise interfere with an action taken or planned by another agency; nor will it materially alter the budgetary impact of entitlements, grants, user fees, or loan programs; nor will it have an annual effect on the economy of $100 million or more; nor will it adversely affect the economy, a sector of the economy, productivity, competition, jobs, the environment, public health or safety, or State, local or Tribal governments or communities in a material way. Furthermore, it does not raise a novel legal or policy issue arising out of legal mandates, the President's priorities or principles set forth in the Executive Order.

Regulatory Flexibility Act of 1980

This final rule has been reviewed in accordance with The Regulatory Flexibility Act of 1980, as amended by the Small Business Regulatory Enforcement Fairness Act of 1996, 5 U.S.C. 601-612. The Department concluded that the rule will not have a significant economic impact on a substantial number of small entities. The rule does not involve regulatory and informational requirements regarding businesses, organizations, and governmental jurisdictions subject to regulation.

Paperwork Reduction Act (PRA)

The Department certifies that this final rule has been assessed in accordance with the requirements of the Paperwork Reduction Act, 44 U.S.C. 3501 et seq. (PRA). The Department concludes that this final rule does not impose any new information requirements; however, the burden estimates will increase for existing approved information collections associated with this rule due to additional applicants. These estimates will be provided to OMB. In addition to the SF-424 form families (i.e., Research and Related and Mandatory), and SF-425, Federal Financial Report; NIFA has three currently approved OMB information collections associated with this rulemaking: OMB Information Collection No. 0524-0042, NIFA Current Research Information System (CRIS); No. 0524-0041, NIFA Application Review Process; and No. 0524-0026, Organizational Information.

Catalog of Federal Domestic Assistance

This final regulation applies to the Federal assistance program administered by NIFA under the Catalog of Federal Domestic Assistance (CFDA) No. 10.314, New Era Rural Technology Competitive Grants Program.

Unfunded Mandates Reform Act of 1995 and Executive Order 13132

The Department has reviewed this final rule in accordance with the requirements of Executive Order No. 13132 and the Unfunded Mandates Reform Act of 1995, 2 U.S.C. 1501 et seq., and has found no potential or substantial direct effects on the States, on the relationship between the national government and the States, or on the distribution of power and responsibilities among the various levels of government. As there is no Federal mandate contained herein that could result in increased expenditures by State, local, or Tribal governments, or by the private sector, the Department has not prepared a budgetary impact statement.

Executive Order 13175: Consultation and Coordination With Indian Tribal Governments

The Department has reviewed this final rule in accordance with Executive Order 13175, and has determined that it does not have “Tribal implications.” The final rule does not “have substantial direct effects on one or more Indian Tribes, on the relationship between the Federal Government and Indian Tribes, or on the distribution of power and responsibilities between the Federal Government and Indian Tribes.”

Clarity of This Regulation

Executive Order 12866 and the President's Memorandum of June 1, 1998, require each agency to write all rules in plain language. The Department invites comments on how to make this final rule easier to understand.

List of Subjects in 7 CFR Part 3430

Administrative practice and procedure, Agricultural research, Education, Extension, Federal assistance.

Accordingly, the interim rule amending 7 CFR part 3430 which was published at 74 FR 45972 on September 4, 2009, is adopted as a final rule with the following change:

PART 3430—COMPETITIVE AND NONCOMPETITIVE NON-FORMULA FEDERAL ASSISTANCE PROGRAMS—GENERAL AWARD ADMINISTRATIVE PROVSIONS

1. The authority citation for part 3430 continues to read as follows:

Authority: 7 U.S.C. 3316; Pub. L. 106-107 (31 U.S.C. 6101 note).

2. In § 3430.902, revise the definition of “Advanced Technological Center” to read as follows:

§ 3430.902 Definitions.

* * * * *

Advanced Technological Center refers to a post-secondary, degree-granting institution that provides students with technology-based education and training, preparing them to work as technicians or at the semi-professional level, and aiding in the development of an agriculture-based renewable energy workforce. For this program, such Centers must be located within a rural area.

* * * * *

Done in Washington, DC, September 17, 2010.
Roger N. Beachy,
Director, National Institute of Food and Agriculture.

[FR Doc. 2010-23883 Filed 9-24-10; 8:45 am]

BILLING CODE 3410-22-P